DEPARTMENT OF LABOR

Employment and Training Administration

[TA-W-59,924]

Mountain Surf, Inc., Friendsville, MD; Notice of Termination of Investigation

Pursuant to Section 221 of the Trade Act of 1974, as amended, an investigation was initiated on August 18, 2006 in response to a petition filed by a company official on behalf of workers at Mountain Surf Inc., Friendsville, Maryland.

The petitioner has requested that the petition be withdrawn. Consequently, the investigation has been terminated.

Signed in Washington, DC, this 6th day of September, 2006.
Linda G. Poole,
Certifying Officer, Division of Trade Adjustment Assistance.

[FR Doc. E6-15079 Filed 9-12-06; 8:45 am]

BILLING CODE 4510-30-P